DEPARTMENT OF ENERGY

Secretary of Energy Advisory Board; Meeting

AGENCY: Department of Energy.

ACTION: Notice of open meeting.

SUMMARY: The Department of Energy hereby publishes a notice of open meeting on April 19, 2022, of the Secretary of Energy Advisory Board (SEAB). This meeting will be held virtually for members of the public and in-person at Lawrence Berkeley National Laboratory, 1 Cyclotron Rd., Berkeley, CA 94720 for SEAB members only.

DATES: Tuesday, April 19, 2022; 9 a.m.-2:50 p.m. Pacific Daylight Time.

ADDRESSES: Virtual meeting for members of the public. To track attendees, registration is required using the following link: https://doe.webex.com/doe/j.php?RGID=rc773bfdb5186ffd7ad48c9fedd0baee0.

FOR FURTHER INFORMATION CONTACT: Christopher Lawrence, Designated Federal Officer, U.S. Department of Energy, 1000 Independence Avenue SW, Washington, DC 20585; phone: (202) 586-5260; email: seab@hq.doe.gov.

SUPPLEMENTARY INFORMATION: Background: The Board was established to provide advice and recommendations to the Secretary on the Administration's energy policies; the Department's basic and applied research and development activities; economic and national security policy; and other activities as directed by the Secretary.

Purpose of the Meeting: This is the third meeting of Secretary Jennifer M. Granholm's SEAB.

Tentative Agenda: The meeting will start at 9:00 a.m. Pacific Daylight Time on April 19, 2022. The tentative meeting agenda includes: Roll call, remarks from the Secretary, remarks from the SEAB chair, remarks on DOE's Justice-40 initiative, SEAB working group report-outs, and public comments. The meeting will conclude at 2:50 p.m. The meeting times and content are subject to change. Meeting materials can be found here: https://www.energy.gov/seab/seab-meetings.

Public Participation: The meeting is open to the public via a virtual meeting option. Individuals who would like to attend must register here: https://doe.webex.com/doe/j.php?RGID=rc773bfdb5186ffd7ad48c9fedd0baee0.

Individuals and representatives of organizations who would like to offer comments and suggestions may do so during the meeting. Approximately 30 minutes will be reserved for public comments. Time allotted per speaker will depend on the number who wish to speak but will not exceed three minutes. The Designated Federal Officer is empowered to conduct the meeting in a fashion that will facilitate the orderly conduct of business. Those wishing to speak should register to do so via email, seab@hq.doe.gov, no later than 5:00 p.m. on Monday, April 18, 2022.

Those not able to attend the meeting or who have insufficient time to address the committee are invited to send a written statement to Christopher Lawrence, U.S. Department of Energy, 1000 Independence Avenue SW, Washington, DC 20585, or email to: seab@hq.doe.gov.

Minutes: The minutes of the meeting will be available on the SEAB website or by contacting Mr. Lawrence. He may be reached at the above postal address or email address, or by visiting SEAB's website at www.energy.gov/seab.

Signed in Washington, DC, on March 25, 2022.
LaTanya Butler,
Deputy Committee Management Officer.

[FR Doc. 2022-06780 Filed 3-30-22; 8:45 am]

BILLING CODE 6450-01-P